DEPARTMENT OF AGRICULTURE

Commodity Credit Corporation

7 CFR Part 1430

RIN 0560-AF41

Dairy Recourse Loan Program for Commercial Dairy Processors

AGENCY: Commodity Credit Corporation, USDA.

ACTION: Final rule.

SUMMARY: This rule removes the regulations governing the Dairy Recourse Loan Program from the Code of Federal Regulations because the program's authorizing legislation was repealed.

EFFECTIVE DATE: February 15, 2002.

FOR FURTHER INFORMATION CONTACT: Steve P. Gill, Warehouse and Inventory Division, United States Department of Agriculture (USDA), STOP 0553, 1400 Independence Avenue, SW, Washington, DC 20250-0553. E-mail: sgill@wdc.fsa.usda.gov. Persons with disabilities who require alternative means for communication (Braille, large print, audio tape, etc.) should contact the USDA TARGET Center at (202) 720-2600 (voice and TDD).

SUPPLEMENTARY INFORMATION:

Executive Order 12612

It has been determined that this rule does not have sufficient Federalism implications to warrant the preparation of a Federalism Assessment. The provisions contained in this rule will not have a substantial direct effect on States or their political subdivisions, or on the distribution of power and responsibilities among various levels of government.

Executive Order 12866

This rule has been determined to be not significant for the purposes of Executive Order 12866 and therefore it has not been reviewed by the Office of Management and Budget.

Executive Order 12988

The rule has been reviewed in accordance with Executive Order 12988. The provisions of this rule do not preempt State laws and are not retroactive.

Regulatory Flexibility Act

It has been determined that the Regulatory Flexibility Act is not applicable because CCC is not required by law to publish a notice of proposed rule making with respect to the matter of this rule.

Unfunded Mandates Reform Act of 1995

This rule contains no Federal mandates under the regulatory provisions of Title II of the Unfunded Mandates Reform Act of 1995 (UMRA) for State, local, and tribal governments or the private sector. Thus, this rule is not subject to the requirements of sections 202 and 205 of UMRA.

Federal Assistance Program

The title and number of the Federal assistance program, as found in the Catalogue of Federal Domestic Assistance, to which this rule applies is as follows:

10.051—Commodity Loans and Purchases

Executive Order 12372

This program is not subject to the provisions of Executive Order 12372, which requires intergovernmental consultation with State and local officials. See the Notice related to 7 CFR part 3015, subpart v, published at 48 FR 29115 (June 24, 1983).

Paperwork Reduction Act

The information collections associated with the Dairy Recourse Loan Program are no longer required.

Discussion of the Final Rule

Section 772 of the Agriculture, Rural Development, Food and Drug Administration, and Related Agencies Appropriations Act, 2002 (Pub. L. 107-76) repealed section 142 of the Federal Agriculture Improvement and Reform Act of 1996 (7 U.S.C. 7252) (the 1996 Act), which authorized the Dairy Recourse Loan Program. This rule removes the program regulations at 7 CFR 1430, subpart C.

The Dairy Recourse Loan Program was intended to help processors manage inventories of certain dairy products and stabilize prices in the dairy industry in the absence of a price support program. Because a dairy price support program has been in operation each year since the 1996 Act was enacted, the Dairy Recourse Loan Program was never in operation. Therefore, the removal of its regulations will have no retroactive effect.

Section 161(d) of the 1996 Act provides that regulations necessary to implement Title I of the 1996 Act shall be issued without regard to the notice and comment provisions of 5 U.S.C. 553. This rule removes regulations because the program's authorizing legislation was repealed. Therefore, it is being issued as a finale rule. In addition, because this rule implements a statutory mandate, delay of this rule for rule-making, or for purposes of 5 U.S.C. 801, is unnecessary and would be contrary to the public interest.

List of Subjects in 7 CFR Part 1430, Subpart C

Appeal procedures, Butter, Cheddar cheese, Electronic loan process, Forfeitures, Nonfat dry milk, Packaging and containers, Recourse loans, Reporting and Record keeping requirements.

Accordingly, 7 CFR part 1430 is amended as follows:

PART 1430—DAIRY PRODUCTS

1. The authority citation for part 1430 continues to read as follows:

Authority: 7 U.S.C. 7252; and 15 U.S.C. 714b and 714c.

2. In part 1430, by removing and reserving subpart C.

Subpart C—[Removed and Reserved]

Signed in Washington, DC, on February 10, 2002.
James R. Little,
Executive Vice President, Commodity Credit Corporation.

[FR Doc. 02-3795 Filed 2-14-02; 8:45 am]

BILLING CODE 3410-05-P